DEPARTMENT OF TRANSPORTATION

Bureau of Transportation Statistics

Agency Information Collection: Activity Under OMB Review; Electric Vehicle Inventory and Use Survey (eVIUS)

AGENCY: Bureau of Transportation Statistics (BTS), Office of the Assistant Secretary for Research and Technology (OST-R), DOT.

ACTION: Notice and Request for Comments.

SUMMARY: In accordance with the requirements of the Paperwork Reduction Act of 1995, this notice announces the intention of the Bureau of Transportation Statistics (BTS) to request the Office of Management and Budget's (OMB) approval of a new information collection related to the nation's battery electric vehicles (BEVs) and plug-in hybrid electric vehicles (PHEVs)—collectively referred to electric vehicles (EVs). The information collected will be used to produce national statistics on the characteristics and uses of EVs as well as the charging patterns and preferences related to EVs. A summary report of survey findings will also be published by BTS on the BTS web page: www.bts.gov.

DATES: Send comments on or before December 6, 2023.

FOR FURTHER INFORMATION CONTACT: Jina Mahmoudi, VIUS/eVIUS Program Manager, (800) 853-1351, eVIUS@dot.gov, BTS, OST-R, Department of Transportation, 1200 New Jersey Ave. SE, Room E34-471, Washington, DC 20590. Office hours are from 8 a.m. to 5:30 p.m., E.T., Monday through Friday, except Federal holidays.

SUPPLEMENTARY INFORMATION:

Title: Electric Vehicle Inventory and Use Survey (eVIUS).

Type of Request: Approval for a new information collection.

Affected Public: Registered owners of battery electric vehicles (BEVs) and plug-in hybrid electric vehicles (PHEVs).

Background: As the pace of electric vehicles' adoption and use increases on the nation's roadways, the U.S. Department of Transportation (U.S. DOT)'s Bureau of Transportation Statistics (BTS) is planning to conduct the first national-level Electric Vehicle Inventory and Use Survey (eVIUS). The eVIUS will be conducted to gain an in-depth understanding of the characteristics, usage, and charging patterns of electric vehicles (EVs) as well as the demographics and charging preferences of EV owners. The data collected through eVIUS will inform policy and planning decisions on future transportation systems and infrastructure investments.

The survey will be administered to owners of a nationally representative sample of battery electric vehicles (BEVs) and plug-in hybrid electric vehicles (PHEVs). The survey scope will be inclusive of passenger cars and light-duty vehicles (up to 10,000 pounds).

As there is no existing national-level data source for EV use and charging patterns, the eVIUS will provide valuable data and information that can assist transportation professionals and other stakeholders at the federal, state, and local levels to decipher the characteristics and usage of the EVs being driven on US roadways, as well as the charging preferences and needs of EV owners. The national-level data will inform policy and planning decisions related to EV charging infrastructure in the US, thereby leading to increased mobility, safety, air quality, and equity on the nation's roadways.

Data Confidentiality Provisions: This will be a voluntary data collection. A summary report of aggregate findings will be published on the BTS web page at www.bts.gov, and no individual and company's information or names will be included in the published reports. The Bureau of Transportation Statistics, its employees and agents, will use the information provided by respondents for statistical purposes only and will hold individuals' information in confidence to the full extent permitted by law. In accordance with the Confidential Information Protection and Statistical Efficiency Act of 2002 (Title 5 of Pub. L. 107-347) and the Foundations for Evidence-Based Policymaking Act of 2018 (Title 3 of Pub. L. 115-435) along with other applicable Federal laws, no responses will not be disclosed in an identifiable form without the respondent's informed consent. Per the Federal Cybersecurity Enhancement Act of 2016, Federal information systems are protected from malicious activities through cybersecurity screening of transmitted data.

Frequency: One time.

Estimated Average Burden per Response: The burden per respondent is estimated to be an average of 16 minutes (0.27 hours). This estimation is based on pre-test surveys conducted (with an average respondent burden of 15 minutes) plus an additional minute to account for log in time.

Estimated Total Annual Burden: Based on an estimated average burden of 0.27 hours per respondent and a 30% response rate, the total annual burden is estimated to be in the range of 4,050 hours (for a minimum number of 50,000 respondents) and 12,150 hours (for a maximum number of 150,000 respondents).

Response to Comments: A 60-day notice requesting public comment was issued in the Federal Register on March 9, 2023 (88 FR 14667, page 14667-14668, published 03/09/2023). Three comments were received by BTS in response to the 60-day public notice. The BTS' responses to those comments are provided below:

BTS' Response to Comment 1 (from The Association for the Work Truck Industry (NTEA):

For this initial round of eVIUS, BTS would like to focus on light-duty electric vehicles (EVs). The reasons for this decision are:

• According to the International Energy Agency, the light-duty EV is becoming a fast-growing mode of transportation as EV sales are increasing substantially, and the electric vehicle (BEVs and PHEVs) sales in the United States increased 55% in 2022 reaching a sales share of 8%. Since the light-duty EVs (e.g., passenger cars) comprise the majority of EV population, to aid determination of charging infrastructure gaps and inform policy decisions, it is essential to collect timely data on use and charging patterns of EVs as currently there is no existing source of such data and national statistics;

• Vehicles using the other suggested alternative fuels (i.e., hydrogen fuel cell, propane, natural gas and other possible future methods of propulsion) are operated differently from EVs. Consequently, expansion of the scope of the eVIUS to include these vehicles would require adding many questions to the survey questionnaire to measure the characteristics and use of such vehicles. This will greatly increase the complexity and length of the survey questionnaire and add to the respondent burden;

• Further, adding other alternatively fueled vehicles in the eVIUS survey would require inclusion of an adequate number of such vehicles in the sample frame, which will increase the sample size and potentially reduce the overall survey estimation precision, and add to the time and budget required for data collection. As alternatively fueled vehicles comprise a small proportion of the entire vehicle population in the U.S., producing robust statistics will be a challenge due to a small population size, which leads to an inadequate sample size.

The eVIUS sample frame is the states' vehicle registration data; therefore, any EVs registered in the states have a chance to be sampled and included in the sample frame—i.e., government-owned fleets (federal, state, local) will not be actively excluded. The eVIUS survey questionnaire includes multiple-choice questions that ask respondents about the ownership type and usage purpose of the vehicle—allowing them to select options that indicate if the vehicle is a government-owned vehicle (state or local) and if the vehicle is used for a government business purpose.

Since increasing the eVIUS scope to include alternatively fueled vehicles would result in the data collection operation schedule and the respondent burden considerations becoming less flexible, it is not a feasible option for this first round of eVIUS as BTS intends to produce timely data (within one year). BTS is considering a future data collection specific to the other alternatively fueled vehicles, depending on availability of funds.

BTS' Response to Comment 2 (from Alliance for Automotive Innovation):

A multiple-choice format has been used for the eVIUS as suggested.

The survey includes questions related to vehicle background and type of use, home base, miles traveled, long-distance travel, general charging behavior and needs, as well as demographics—capturing information for most of the proposed targeted questions.

BTS' Response to Comment 3 (from The National Automobile Dealers Association (NADA)):

The eVIUS sample frame has been expanded to include owners of plug-in hybrid electric vehicles (PHEVs) as suggested. For this initial round of eVIUS, BTS will focus on light-duty EVs due to reasons previously outlined (please see “BTS' Response to Comment 1” above). BTS is considering future data collections focusing on vehicles above 10,000 pounds, depending on availability of funds.

A multiple-choice format has been used for the eVIUS as suggested.

A draft survey was not provided in the sixty-day notice (88 FR 14667). The survey questionnaire was developed and finalized in collaboration with subject matter experts and stakeholders. In addition, subject matter experts from various agencies/organizations, including academia, have provided BTS with suggestions for survey questions. These suggestions were carefully considered, and where appropriate, incorporated into the survey questionnaire.

To test question understanding and clarity of instructions, a pre-test of the draft survey was also conducted with participation of five EV owners. Following completion of the survey, one hour long cognitive interviews were conducted with each of the pre-testers to collect information on their survey experience and other feedback for improving the survey. Overall, the pre-testers reported that the survey was clear, and they did not have any major issues with understanding the survey questions/instructions.

Public Comments Invited: Interested parties are invited to send comments regarding any aspect of this information collection, including, but not limited to: (1) the necessity and utility of the information collection for the proper performance of the functions of the DOT; (2) the accuracy of the estimated burden; (3) ways to enhance the quality, utility, clarity and content of the collected information; and (4) ways to minimize the collection burden without reducing the quality of the collected information.

Send comments to the Office of Information and Regulatory Affairs, Office of Management and Budget, 725-17th Street NW, Washington, DC 20503, Attention: BTS Desk Officer.

Issued in Washington, DC, on 3rd of October, 2023.
Cha-Chi Fan,
Director, Office of Data Development and Standards, Bureau of Transportation Statistics, Office of the Assistant Secretary for Research and Technology.

[FR Doc. 2023-24397 Filed 11-3-23; 8:45 am]

BILLING CODE 4910-9X-P